FEDERAL ELECTION COMMISSION

[Notice 2008-07]

Filing Dates for the Maryland Special Election in the 4th Congressional District

AGENCY: Federal Election Commission.

ACTION: Notice of filing dates for special election.

SUMMARY: Maryland has scheduled a Special General Election on June 17, 2008, to fill the U.S. House of Representatives seat in the Fourth Congressional District vacated by Representative Albert R. Wynn.

Committees participating in the Maryland Special General Election on June 17, 2008, shall file a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Maryland Special General Election shall file a 12-day Pre-General Report on June 5, 2008; and a 30-day Post-General Report on July 17, 2008. (See chart below for the closing date for each report).

Unauthorized Committees (PACs and Party Committees)

Political committees filing on a quarterly basis in 2008 are subject to special election reporting if they make previously undisclosed contributions or expenditures in connection with the Maryland Special General Election by the close of books for the applicable report(s). (See chart below for the closing date for each report.)

Committees filing monthly that support candidates in the Maryland Special General Election should continue to file according to the monthly reporting schedule.

Additional disclosure information in connection with the Maryland Special General Election may be found on the FEC Web site at http://www.fec.gov/info/report_dates.shtml.

Calendar of Reporting Dates for Maryland Special Election
[Committees involved in the Special General (06/17/08), must file:]
Report | Close of books ¹ | Reg./cert. & overnight mailing deadline | Filing deadline
Pre-General | 05/28/08 | 06/02/08 | 06/05/08
July Quarterly | —WAIVED—
Post-General | 07/07/08 | 07/17/08 | 07/17/08
October Quarterly | 09/30/08 | 10/15/08 | 10/15/08
¹ The reporting period always begins the day after the closing date of the last report filed. If the committee is new and has not previously filed a report, the first report must cover all activity that occurred before the committee registered up through the close of books for the first report due.

Dated: April 29, 2008.
David M. Mason,
Chairman, Federal Election Commission.

[FR Doc. E8-9859 Filed 5-5-08; 8:45 am]

BILLING CODE 6715-01-P